SECURITIES EXCHANGE ACT OF 1934

[Release No. 34-101207]

Order Cancelling Registration of Municipal Advisor, Development & Public Finance, LLC, Pursuant to Section 15b(C)(3) of the Securities Exchange Act of 1934

September 27, 2024.

Development & Public Finance, LLC (CIK No. 1613281, SEC File No. 866-00124-00), hereinafter referred to as the “registrant,” is registered with the Securities and Exchange Commission (the “Commission”) as a municipal advisor pursuant to Sections 15B(a)(1)(B) and 15B(a)(2) of the Securities Exchange Act of 1934 (the “Act”).

On August 29, 2024, a Notice of Intention to Cancel Registration of Certain Municipal Advisors, including the registrant, was published in the Federal Register (Securities Exchange Act Release No. 34-100815). The notice gave interested persons an opportunity to request a hearing and stated that an order or orders cancelling the registration would be issued unless a hearing was ordered. No request for a hearing has been filed by any persons (including registrant), and the Commission has not ordered a hearing.

Pursuant to Section 15B(c)(3) of the Act, the Commission has found that registrant is no longer in existence or has ceased to do business as a municipal advisor.

Accordingly,

It is ordered, pursuant to Section 15B(c)(3) of the Act, that the registration of Development & Public Finance, LLC (CIK No. 1613281, SEC File No. 866-00124-00) be, and hereby is, cancelled.

For the Commission, by the Office of Municipal Securities, pursuant to delegated authority.¹
¹ 17 CFR 200.30-3a(a)(1)(ii).
Vanessa A. Countryman,
Secretary.

[FR Doc. 2024-22735 Filed 10-2-24; 8:45 am]

BILLING CODE 8011-01-P